DEPARTMENT OF AGRICULTURE

Food Safety and Inspection Service

[Docket No. FSIS-2011-0019]

National Advisory Committee on Meat and Poultry Inspection

AGENCY: Food Safety and Inspection Service, USDA.

ACTION: Notice of public meeting.

SUMMARY: The Food Safety and Inspection Service (FSIS) is announcing, pursuant to the Federal Advisory Committee Act, 5 U.S.C. App. 2, that the National Advisory Committee on Meat and Poultry Inspection (NACMPI) will hold a public meeting on September 22 and 23, 2011, to review and discuss pre-harvest and validation.

All issues will be presented to the full Committee. The Committee will then divide into two subcommittees to discuss the issues. Each subcommittee will provide a report of their comments and recommendations to the full Committee before the meeting concludes on September 23, 2011.

DATES: The Committee will hold a public meeting on Thursday, September 22, 2011, from 9 a.m. to 5 p.m. and Friday, September 23, 2011, from 9 a.m. to 3:30 p.m. The subcommittees will hold open meetings during their deliberations and report preparation.

ADDRESSES: The meeting site will be posted on the FSIS Web site as soon as the information is available at: http://www.fsis.usda.gov under News & Events.

The meeting agenda is available on the Internet at the NACMPI Web site, http://www.fsis.usda.gov/about_fsis/nacmpi/index.asp.

FSIS welcomes comments through November 1, 2011, on the topics discussed at the NACMPI public meeting. Comments may be submitted by any of the following methods:

Electronic mail: NACMPI@fsis.usda.gov.

Mail, including floppy disks or CD-ROMs: Send to National Advisory Committee on Meat and Poultry Inspection, USDA, FSIS, 14th & Independence Avenue, SW., Room 1180, South Building, Washington, DC 20250.

Hand- or courier-delivered items: Deliver to Sally Fernandez at 14th & Independence Avenue, SW., Room 1180-S, Washington, DC. To deliver these items, the building security guard must first call (202) 720-9113.

Facsimile: Send to Sally Fernandez, (202) 690-6519. All submissions received must include the Agency name and docket number FSIS-2011-0019.

FOR FURTHER INFORMATION: Contact Keith Payne for technical information at (202) 690-6522, or e-mail keith.payne@fsis.usda.gov, and Sally Fernandez for meeting information at (202) 690-6524, Fax (202) 690-6519, or e-mail sally.fernandez@fsis.usda.gov. Persons requiring a sign language interpreter or other special accommodations should notify Sally Fernandez at the numbers above or by e-mail.

SUPPLEMENTARY INFORMATION:

Background

The NACMPI provides advice and recommendations to the Secretary of Agriculture pertaining to the Federal and State meat and poultry inspection programs, pursuant to sections 7(c), 24, 205, 301(a)(3), 301(a)(4), and 301(c) of the Federal Meat Inspection Act (21 U.S.C. 607(c), 624, 645, 661(a)(3), 661(a)(4), and 661(c)) and sections 5(a)(3), 5(a)(4), 5(c), 8(b), and 11(e) of the Poultry Products Inspection Act (21 U.S.C. 454(a)(3), 454(a)(4), 454(c), 457(b), and 460(e)).

The Administrator of FSIS is the chairperson of the Committee. Membership of the Committee is drawn from representatives of consumer groups; producers, processors, and marketers from the meat, poultry and egg product industries; State and local government officials; and academia. The current members of the NACMPI are: Patricia K. Buck, Center for Foodborne Illness Research and Prevention; Dr. Fur-Chi Chen, Tennessee State University; Brian R. Covington, Keystone Foods LLC; Dr. Catherine N. Cutter, Pennsylvania State University; Nancy J. Donley, STOP Foodborne Illness; Veneranda Gapud, Fieldale Farms Corporation; Dr. Craig Henry, Deloitte & Touche LLP; Dr. Cheryl D. Jones, Morehouse School of Medicine; Dr. Heidi Kassenborg, Minnesota Department of Agriculture; Sarah A. Klein, Center for Science in the Public Interest; Dr. Shelton E. Murinda, California State Polytechnic University; Dr. Edna Negrón, University of Puerto Rico; Robert G. Reinhard, Sara Lee Corporation; Dr. Craig E. Shultz, Pennsylvania Department of Agriculture; Stanley A. Stromberg, Oklahoma Department of Agriculture, Food, and Forestry; Dr. John D. Tilden, Michigan Department of Agriculture and Rural Development; Carol L. Tucker-Foreman, Consumer Federation of America; Steve E. Warshawer, Mesa Top Farm; Dr. J. Byron Williams, Mississippi State University; and Leonard W. Winchester, Public Health—Seattle & King County.

The Committee will discuss pre-harvest and validation:

• As was initially discussed at the 2010 NACMPI meeting, exploring and implementing pre-harvest hazard controls is of continuing interest to FSIS. The Agency tracks illnesses caused by the three pathogens, Salmonella, Listeria monocytogenes (Lm), and E. coli O157:H7, as part of its corporate “All-Illness” performance measure. Significant progress has been made towards reducing illnesses caused by Lm and E. coli O157:H7. The same cannot be said about Salmonella. Salmonella spp., especially multi-drug resistant strains, are being increasingly identified as the cause of human illness from the consumption of ground poultry and beef products. Since 2009, over 37 million pounds of raw ground beef and ground turkey products have been recalled over five separate recalls because they were implicated in salmonellosis outbreaks. FSIS' goal is to reduce and eliminate pathogens before products reach consumers. This meeting will expand on the pre-harvest discussions begun at the 2010 NACMPI meeting and more thoroughly explore options of preventing hazards from entering establishments on source animals or products.

• FSIS intends to make available updated guidelines concerning validation for the meat and poultry industry. At this meeting, FSIS will make available for comment by the Committee a draft of the updated guidance. FSIS seeks comment on whether validation, when properly implemented, effectively helps prevent or control relevant hazards.

All interested parties are welcome to attend the meeting and to submit written comments and suggestions concerning issues the Committee will review and discuss.

The comments and the official transcript of the meeting, when they become available, will be kept in the FSIS Docket Room, 1400 Independence Avenue, SW., Patriots Plaza 3, Mailstop 3782, Room 163A, Washington, DC 20250-3700, and posted on the Agency's NACMPI Web site, http://www.fsis.usda.gov/about_fsis/nacmpi/index.asp.

Members of the public will be required to register before entering the meetings. Registration will begin at 8:30 a.m. at the meeting site and the meetings will begin at 9 a.m.

USDA Nondiscrimination Statement

USDA prohibits discrimination in all its programs and activities on the basis of race, color, national origin, gender, religion, age, disability, political beliefs, sexual orientation, and marital or family status (Not all prohibited bases apply to all programs).

Persons with disabilities who require alternative means for communication of program information (Braille, large print, and audiotape) should contact USDA's Target Center at (202) 720-2600 (voice and TTY).

To file a written complaint of discrimination, write USDA, Office of the Assistant Secretary for Civil Rights, 1400 Independence Avenue, SW., Washington, DC 20250-9410 or call (202) 720-5964 (voice and TTY). USDA is an equal opportunity provider and employer.

Additional Public Notification

Public awareness of all segments of rulemaking and policy development is important. Consequently, in an effort to ensure that minorities, women, and persons with disabilities are aware of this notice, FSIS will announce it online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service, which provides automatic and customized access to selected food safety news and information. This service is available at http://www.fsis.usda.gov/News_&_Events/Email_Subscription/. Options range from recalls to export information to regulations, directives and notices. Customers can add or delete subscriptions themselves, and have the option to password protect their accounts.

Done at Washington, DC, on: September 6, 2011.
Alfred V. Almanza,
Administrator.

[FR Doc. 2011-23168 Filed 9-7-11; 4:15 pm]

BILLING CODE 3410-DM-P